DEPARTMENT OF COMMERCE

National Oceanic and Atmospheric Administration

[RTID 0648-XB255]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a three-day in-person and virtual (hybrid) meeting of its Standing, Reef Fish, Socioeconomic, and Ecosystem Scientific and Statistical Committees (SSC).

DATES: The meeting will take place Monday, August 9 to Wednesday, August 11, 2021, from 8:30 a.m. to 5 p.m., EDT daily.

ADDRESSES: The in-person meeting will take place at the Gulf Council office. If you are unable to travel, you may attend via webinar. Registration information will be available on the Council's website by visiting www.gulfcouncil.org and clicking on the SSC meeting on the calendar.

Council address: Gulf of Mexico Fishery Management Council, 4107 W Spruce Street, Suite 200, Tampa, FL 33607; telephone: (813) 348-1630.

FOR FURTHER INFORMATION CONTACT: Ryan Rindone, Lead Fishery Biologist, Gulf of Mexico Fishery Management Council; ryan.rindone@gulfcouncil.org, telephone: (813) 348-1630.

SUPPLEMENTARY INFORMATION:

Monday, August 9, 2021; 8:30 a.m.-5 p.m., EDT

The meeting will begin with Introductions and Adoption of Agenda, Approval of Verbatim Minutes and Meeting Summary from the May 3-4, 2021 webinar meeting, Election of Chair and Vice Chair and review of Scope of Work. The Committees will select an SSC Representative for the August 23-26, 2021 Gulf Council Meeting and review and discuss the SSC's Best Practices and Voting Procedures.

The Committees will review and hold a discussion on the Finalized Great Red Snapper Count (GRSC) Project Report, including presentations, background material on the finalized report and independent consultant reports. The Committees will review and discuss the updated Red Grouper Interim Analysis and Research Track and Operational Assessment Process Guidance Document, including a presentations, report, and background material.

The Committees will review Discuss the Research Track and Operational Assessment Process Guidance Document, followed by a Determination of Topical Working Groups for SEDAR 75: Gulf of Mexico Gray Snapper Operational Assessment. The Committees will then review and discuss the Scope of Work for Red Grouper Operational Assessment and the Scope of Work for the Vermilion Snapper Operational Assessment.

Tuesday, August 10, 2021; 8:30 a.m.-5 p.m., EDT

The Committees will determine the Approach to Assess the Gulf of Mexico Tilefish Complex, and then review the Interim Analysis Schedule and the Revised SEDAR Stock Assessment Schedule. The Committees will then review the Draft Southeast Regional Framework for Establishing the Best Scientific Information Available, including presentations; and, hold a discussion for National Standard 1 (NS1) Technical Guidance Subgroup 3 Tech Memo: Managing with Acceptable Catch Limits (ACLs) for data-limited stocks in federal fishery management plans—Review and recommendations for implementing 50 CFR 600.310(h)(2) flexibilities for data limited stocks, including background.

Following, the Committees will review King Mackerel Historical Harvest and Catch Limits, King Mackerel Historical Commercial Harvest Differences, and Greater Amberjack Historical Harvest and Catch Limits.

Wednesday, August 11, 2021; 8:30 a.m.-5 p.m., EDT

The Committees will review Updated Greater Amberjack Projections, discuss and receive a presentation on the Pilot Project on Allocation, and review Draft Options for Generic Essential Fish Habitat Amendment 5.

The Committees will also review the Standardized Bycatch Reduction Methodology, and hold a discussion of Topic Leaders for Agenda Items. The Committees will then receive public comment, and then discuss any Other Business items.

—Meeting Adjourns

The meeting will be also be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take-action to address the emergency.

Special Accommodations

These meetings are physically accessible to people with disabilities. Requests for sign language interpretation or other auxiliary aid should be directed to Kathy Pereira, (813) 348-1630, at least 5 days prior to the meeting date.

Authority: 16 U.S.C. 1801 et seq.

Dated: July 15, 2021.
Tracey L. Thompson,
Acting Deputy Director, Office of Sustainable Fisheries, National Marine Fisheries Service.

[FR Doc. 2021-15363 Filed 7-19-21; 8:45 am]

BILLING CODE 3510-22-P